DEPARTMENT OF STATE

[Public Notice 5337]

Determination With Respect to Countries and Entities Failing To Take Measures To Apprehend and Transfer All Indicted War Criminals

Pursuant to the authority vested in me by Section 561 of the Foreign Operations, Export Financing, and Related Programs Appropriations Act, 2006 (Pub. L. 109-102), I hereby determine that Serbia and the Republika Srpska have failed to take necessary and significant steps to implement their international legal obligations to apprehend and transfer to the International Criminal Tribunal for the Former Yugoslavia all persons in their territory who have been indicted by the Tribunal.

This determination will be published in the Federal Register.

Dated: February 9, 2006.
Condoleezza Rice,
Secretary of State, Department of State.

[FR Doc. E6-3131 Filed 3-3-06; 8:45 am]

BILLING CODE 4710-23-P